DEPARTMENT OF ENERGY

Federal Energy Regulatory Commission

Combined Notice of Filings #2

May 1, 2006.

Take notice that the Commission received the following electric rate filings:

Docket Numbers: ER06-611-001; ER06-691-001.

Applicants: PJM Interconnection, LLC.

Description: PJM Interconnection, LLC submits a response to FERC's 3/31/06 request for additional information.

Filed Date: 4/24/2006.

Accession Number: 20060426-0271.

Comment Date: 5 p.m. Eastern Time on Monday, May 15, 2006.

Docket Numbers: ER06-743-001.

Applicants: Air Liquide Large Industries U.S., LP.

Description: Air Liquide Large Industries U.S., LP submits an amendment to its application for market based rate authority filed on 3/16/06, in response to FERC's request.

Filed Date: 4/24/2006.

Accession Number: 20060426-0269.

Comment Date: 5 p.m. Eastern Time on Monday, May 15, 2006.

Docket Numbers: ER06-744-001.

Applicants: Sabine Cogen, LP.

Description: Sabine Cogen, LP amends its application for market-based rate authority filed on 3/16/06, in response to FERC's request.

Filed Date: 4/24/2006.

Accession Number: 20060426-0268.

Comment Date: 5 p.m. Eastern Time on Monday, May 15, 2006.

Docket Numbers: ER06-877-000.

Applicants: Pacific Gas & Electric Company.

Description: Pacific Gas and Electric Co. submits an executed Letter Agreement settling a dispute with Transmission Agency of Northern California.

Filed Date: 4/24/2006.

Accession Number: 20060426-0246.

Comment Date: 5 p.m. Eastern Time on Monday, May 15, 2006.

Docket Numbers: ER06-883-000.

Applicants: American Electric Power Service Corporation; Indiana Michigan Power Company.

Description: Indiana Michigan Power Co. submits its second revision to the Interconnection and Local Delivery Service Agreement 1262 with Wabash Valley Power Association.

Filed Date: 4/24/2006.

Accession Number: 20060426-0273.

Comment Date: 5 p.m. Eastern Time on Monday, May 15, 2006.

Docket Numbers: ER06-884-000.

Applicants: PSI Energy, Inc.

Description: PSI Energy Inc. submits a request for FERC to accept its Cost-Based Formula Rate Agreement for Firm Energy and Capacity dated 4/14/06 with Hoosier Energy Rural Electric Cooperative.

Filed Date: 4/24/2006.

Accession Number: 20060426-0264.

Comment Date: 5 p.m. Eastern Time on Monday, May 15, 2006.

Docket Numbers: ER06-885-000.

Applicants: BM2 LLC.

Description: BM2 LLC submits a petition for acceptance of its initial Tariff, Original Volume No. 1, Waivers and Blanket Authority.

Filed Date: 4/24/2006.

Accession Number: 20060426-0263.

Comment Date: 5 p.m. Eastern Time on Monday, May 15, 2006.

Docket Numbers: ER06-886-000.

Applicants: PJM Interconnection, LLC.

Description: PJM Interconnection LLC submits an Interconnection Service Agreement No. 1466 with AMERESCO Delaware Energy, LLC and Delaware Power and Light Co.

Filed Date: 4/24/2006.

Accession Number: 20060426-0307.

Comment Date: 5 p.m. Eastern Time on Monday, May 15, 2006.

Docket Numbers: ER06-887-000.

Applicants: PJM Interconnection, LLC.

Description: PJM Interconnection LLC submits an Interconnection Service Agreement No. 1467 with AMERESCO Delaware Energy, LLC and Delmarva Power & Light Co.

Filed Date: 4/24/2006.

Accession Number: 20060426-0194.

Comment Date: 5 p.m. Eastern Time on Monday, May 15, 2006.

Docket Numbers: ER06-888-000.

Applicants: Allegheny Energy Supply Company, LLC

Description: Allegheny Energy Supply Co, LLC submits a Notice of Succession et al.

Filed Date: 4/25/2006.

Accession Number: 20060428-0120.

Comment Date: 5 p.m. Eastern Time on Tuesday, May 16, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E6-7005 Filed 5-8-06; 8:45 am]

BILLING CODE 6717-01-P